DEPARTMENT OF LABOR

Employment and Training Administration

Post-Initial Determinations Regarding Eligiblity To Apply for Trade Adjustment Assistance

In accordance with Sections 223 and 284 (19 U.S.C. 2273 and 2395) of the Trade Act of 1974 (19 U.S.C. 2271, et seq.) (“Act”), as amended, the Department of Labor herein presents Notice of Affirmative Determinations Regarding Application for Reconsideration, summaries of Negative Determinations Regarding Applications for Reconsideration, summaries of Revised Certifications of Eligibility, summaries of Revised Determinations (after Affirmative Determination Regarding Application for Reconsideration), summaries of Negative Determinations (after Affirmative Determination Regarding Application for Reconsideration), summaries of Revised Determinations (on remand from the Court of International Trade), and summaries of Negative Determinations (on remand from the Court of International Trade) regarding eligibility to apply for trade adjustment assistance under Chapter 2 of the Act (“TAA”) for workers by (TA-W) number issued during the period of May 1, 2020 through May 31, 2020. Post-initial determinations are issued after a petition has been certified or denied. A post-initial determination may revise a certification, or modify or affirm a negative determination.

Revised Certifications of Eligibility

The following revised certifications of eligibility to apply for TAA have been issued. The date following the company name and location of each determination references the impact date for all workers of such determination, and the reason(s) for the determination.

The following revisions have been issued.

TA-W No. | Subject firm | Location | Impact date | Reason(s)
93,917 | General Electric Company | Erie, PA | 6/24/2018 | Worker Group Clarification.
93,917A | Association of Corporate Counsel America Chicago Chapter, Capgemini, etc. | Erie, PA | 6/22/2017 | Worker Group Clarification.
94,820 | Kitron Technologies Inc. | Windber, PA | 5/15/2018 | Technical Error.
94,840 | Lufkin Industries, LLC | Lufkin, TX | 5/23/2018 | Wages Reported Under Different FEIN Number.
95,041 | Newell Brands | Winchester, VA | 8/1/2018 | Worker Group Clarification.

Revised Determinations (after Affirmative Determination Regarding Application for Reconsideration)

The following revised determinations on reconsideration, certifying eligibility to apply for TAA, have been issued. The date following the company name and location of each determination references the impact date for all workers of such determination.

The following revised determinations on reconsideration, certifying eligibility to apply for TAA, have been issued. The requirements of Section 222(b) (supplier to a firm whose workers are certified eligible to apply for TAA) of the Trade Act have been met.

TA-W No. | Subject firm | Location | Impact date
94,889 | Xerox Corporation | Wilsonville, OR | 6/10/2018
95,149 | AIG PC Global Services, Inc. | New York, NY | 9/5/2018

I hereby certify that the aforementioned determinations were issued during the period of May 1, 2020 through May 31, 2020. These determinations are available on the Department's website https://www.doleta.gov/tradeact/petitioners/taa_search_form.cfm under the searchable listing determinations or by calling the Office of Trade Adjustment Assistance toll free at 888-365-6822.

Signed at Washington, DC this 8th day of June 2020.
Hope D. Kinglock,
Certifying Officer, Office of Trade Adjustment Assistance.

[FR Doc. 2020-13969 Filed 6-26-20; 8:45 am]

BILLING CODE 4510-FN-P